FEDERAL COMMUNICATIONS COMMISSION

[OMB 3060-0905, OMB 3060-1269; FR ID 118551]

Information Collections Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before February 17, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-0905.

Title: Section 18.213, Information to the User (Regulations for RF Lighting Devices).

Form Number: N/A.

Type of Review: Extension of a currently approved collection.

Respondents: Business or other for-profit; not-for-profit institutions.

Number of Respondents and Responses: 250 respondents; 250 responses.

Estimated Time per Response: 1 hour.

Frequency of Response: Third party disclosure requirement.

Obligation to Respond: Required to obtain or retain benefits. Statutory authority for this information collection is contained in 47 U.S.C. 154(i), 301, 302, 303(e), 303(f), 303(r), 304 and 307.

Total Annual Burden: 250 hours.

Total Annual Cost: $18,750.

Privacy Impact Assessment: No impact(s).

Nature and Extent of Confidentiality: There is no need for confidentiality with this collection of information.

Needs and Uses: This collection will be submitted as an extension after this 60 day comment period to the Office of Management and Budget (OMB) in order to obtain the full three year clearance.

Section 18.213 (for which the Commission is seeking continued OMB approval) requires information on industrial, scientific and medical equipment shall be provided to the user in the instruction manual or on the packaging of an instruction manual is not provided for any type of ISM equipment. (a) The interference potential of the device or system (b) maintenance of the system; (c) simple measures that can be taken by the user to correct interference; and (d) manufacturers of RF lighting devices must provide documentation, similar to the following:

This product may cause interference to radio equipment and should not be installed near maritime safety communications equipment or other critical navigation or communication equipment operating between 0.45-30 MHz. Variations of this language are permitted provided all the points of the statement are addressed and may be presented in any legible font or text style.

OMB Control Number: 3060-1269.

Title: Enhanced Geo-targeted Wireless Emergency Alerts.

Form No.: N/A.

Type of Review: Extension of a currently-approved collection.

Respondents: Individuals or households; State, Local or Tribal Government.

Number of Respondents and Responses: 25,723 respondents; 25,723 responses.

Estimated Time per Response: 0.1167 hours (7 minutes).

Frequency of Response: One-time reporting requirement.

Obligation to Respond: Voluntary. Statutory authority for this information collection is authorized under the Warning, Alert and Response Network Act, Title VI of the Security and Accountability for Every Port Act of 2006 (120 Stat. 1884, section 602(a), codified at 47 U.S.C. 1201, et seq., 1202(a)) (WARN Act) and 47 U.S.C. 151, 154(i), 154(j), 154(o), 218, 219, 230, 256, 301, 302(a), 303(f), 303(g), 303(j), 303(r) and 403.

Total Annual Burden: 3,000 hours.

Total Annual Cost: No Cost.

Privacy Act Impact Assessment: Yes. The FCC is revising the Privacy Impact Assessment (PIA) and modifying the existing System of Records Notice (SORN), FCC/PSHSB-1, FCC Emergency and Continuity Contacts System (ECCS), for the Public Safety Support System to address the personally identifiable information (PII) that will be collected, used, and stored as part of the information collection requirements.

Nature and Extent of Confidentiality: There is no need for confidentiality with this collection of information.

Needs and Uses: The WARN Act gives the Commission authority to adopt relevant technical standards, protocols, procedures and other technical requirements governing Wireless Emergency Alerts (WEA). The Commission adopted rules to implement the WEA system (previously known as the Commercial Mobile Service Alert System) pursuant to the WARN Act to satisfy the Commission's mandate to promote the safety of life and property through the use of wire and radio communication. The WEA system transmits emergency alerts to WEA-capable mobile devices, providing consumers with timely warnings and information in emergencies. In 2018, the Commission issued a Report & Order requiring that Participating Commercial Mobile Service Providers (providers) implement enhanced geo-targeting functionality by November 30, 2019 to allow WEA alert originators (e.g., local emergency management offices) to target a WEA alert to eligible devices in a prescribed geographic area (e.g., an area where there is imminent threat of the loss of life or property). See Federal Communications Commission, Wireless Emergency Alerts; Emergency Alert System, 83 FR 8619, 8623 (Feb. 28, 2018) (announcing a Nov. 30, 2019 amendment to 47 CFR 10.450).

The Commission now seeks to evaluate WEA performance, particularly with respect to the accuracy of providers' geo-targeting capabilities. To do so, the Commission will use surveys to collect information and evaluate performance during a WEA test. Survey respondents affiliated with two alert originators, partnered with the Commission in different geographic areas of the country, will be asked to complete a preliminary survey. This survey will improve the utility of a “live test” survey, which respondents will subsequently receive via a hyperlink embedded in a WEA test alert. The Commission has developed a survey, which is available at https://www.fcc.gov/wea. The Commission also made available a Spanish-language version of the test message at, https://www.fcc.gov/wea-es. The information sought in this collection is necessary and vital to ensuring that WEA is effective at protecting the life and property of the public.

Federal Communications Commission.
Marlene Dortch,
Secretary, Office of the Secretary.

[FR Doc. 2022-27372 Filed 12-16-22; 8:45 am]

BILLING CODE 6712-01-P